DEPARTMENT OF COMMERCE

Bureau of Economic Analysis

Submission for OMB Review; Comment Request

AGENCY: Bureau of Economic Analysis, Commerce.

DOC has submitted to OMB for clearance the following proposal for collection of information under the provisions of the Paperwork Reduction Act of 1995 Public Law 104-13.

Title: Institutional Remittances to Foreign Countries.

Agency Form Number: BE-40.

OMB Number: 0608-0002.

Type of Review: Renewal of an existing collection.

Burden: 3,273 reporting hours.

Number of Respondents: 1,336 respondents.

Average Hours Per Response: 1.5 hours per annual reporter, 6.0 hours per quarterly reporter.

Needs and Uses: The survey is required in order to obtain comprehensive initial data concerning the transfer of cash grants to foreign countries and their expenditures in foreign countries by U.S. religious, charitable, educational, scientific, and similar organizations. The data are needed primarily to compile the U.S. international accounts.

Affected Public: U.S. religious, charitable, educational, scientific, and similar organizations which transfer cash grants to foreign countries and their expenditures in foreign countries.

Frequency: Quarterly for institutions transferring $1 million or more each year, annually for all others.

Respondent's Obligation: Voluntary.

Legal Authority: Bretton Woods Agreement Act, Section 8, and E.O. 10033, as amended.

OMB Desk Officer: Paul Bugg (202) 395-3093.

Copies of the above information collection proposal can be obtained by calling or writing Departmental Paperwork Clearance Officer, Madeleine Clayton (202) 482-3129, Department of Commerce, Room 6608, 14th Street and Constitution Avenue, NW., Washington, DC 20230.

Written comments and recommendations for the proposed information collection should be sent to Paul Bugg, OMB Desk Officer, Room 10201, New Executive Office Building, Washington, DC 20503.

Dated: June 11, 2002.
Madeleine Clayton,
Departmental Paperwork Clearance Officer, Office of the Chief Information Officer.

[FR Doc. 02-15077 Filed 6-13-02; 8:45 am]

BILLING CODE 3510-EA-P